DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 21, 2017.

ADDRESSES: You should address comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on July 28, 2017.
Donald Burger,
Chief, Office of the Special Permits and Approvals.

Application No. | Docket No. | Applicant | Regulation(s) affected | Nature of the special permits thereof
SPECIAL PERMITS DATA
7657-M |  | Welker, Inc | 173.201, 173.202, 173.203, 173.301(f)(2), 173.304(a), 177.840(a)(1) | To modify the special permit to clarify authorized uses of cylinders under its authorization. (Modes 1, 2, 3, 4).
11054-M |  | Welker, Inc | 173.201(c), 173.202(c), 173.203(c), 173.301(f)(2), 173.302a(a)(1), 173.304a(a)(1), 173.304a(d)(3)(i), 177.840(a)(1) | To modify the special permit to clarify authorized uses of cylinders under its authorization. (Modes 1, 2, 3, 4).
11352-M |  | Pepsico Puerto Rico, Inc | 172.200, 172.300, 172.400, 172.500 | To modify the special permit to authorize an additional Division 6.1 material. (Mode 1).
11516-M |  | Chemtronics Inc | Part 172 Subparts C, E, F, 173.304a(a), Part 174, Part 177 | To modify the special permit to authorize additional Division 2.1 hazmat to be transported. (Modes 1, 2, 3, 4).
13027-M |  | Ernest Hernandez | 173.202, 173.203, 173.241, 173.242, 173.243 | To modify the special permit to authorize the adding of additional Class 3 hazmat. (Mode 1).
15238-M |  | Reeder Flying Service, Inc | 172.101 Column (9B), 172.200, 172.301(c), 172.204(c)(3), 173.27(b)(2), 175.30(a)(1), 175.75, Part 178 | To modify the special permit to add and remove items from the authorized hazmat to be transported. (Mode 4).
16011-M |  | Americase, Inc | 172.200, 172.400, 172.300, 172.500, 172.600, 172.700(a), 173.185(f) | To modify the special permit to authorize using a QR Code and URL that is linked to the SP can be included on the special permit package in lieu of requiring a physical copy of the special permit to travel with each shipment. (Modes 1, 2, 3).

[FR Doc. 2017-16444 Filed 8-3-17; 8:45 am]

BILLING CODE 4909-60-P